DEPARTMENT OF COMMERCE

International Trade Administration

Notice of Scope Rulings

AGENCY: Import Administration, International Trade Administration, Department of Commerce.

EFFECTIVE DATE: May 1, 2007.

SUMMARY: The Department of Commerce (the Department) hereby publishes a list of scope rulings completed between January 1, 2007, and March 31, 2007. In conjunction with this list, the Department is also publishing a list of requests for scope rulings and anticircumvention determinations pending as of March 31, 2007. We intend to publish future lists after the close of the next calendar quarter.

FOR FURTHER INFORMATION CONTACT: Irina Itkin, AD/CVD Operations, Office 2, Import Administration, International Trade Administration, U.S. Department of Commerce, 14th Street and Constitution Avenue, NW, Washington, DC 20230; telephone: (202) 482-0656.

SUPPLEMENTARY INFORMATION:

Background

The Department's regulations provide that the Secretary will publish in the Federal Register a list of scope rulings on a quarterly basis. See 19 CFR 351.225(o). Our most recent “Notice of Scope Rulings” was published on February 7, 2007. See 72 FR 5677. This notice covers all scope rulings and anticircumvention determinations completed by Import Administration between January 1, 2007, and March 31, 2007, inclusive and it also lists any scope or anticircumvention inquiries pending as of March 31, 2007. As described below, subsequent lists will follow after the close of each calendar quarter.

Scope Rulings Completed Between January 1, 2007 and March 31, 2007:

France

A-427-801: Ball Bearings and Parts Thereof from France

Requestor: The Gates Corporation; certain of its belt guide rollers from France are not within the scope of the antidumping duty order; January 29, 2007.

People's Republic of China

A-570-502: Iron Construction Castings from the People's Republic of China

Requestor: A.Y. McDonald Manufacturing Company; its cast iron bases and upper bodies for meter boxes are not within the scope of the antidumping duty order; January 18, 2007.

A-570-504: Petroleum Wax Candles from the People's Republic of China

Requestor: Lamrite West Inc., d.b.a. Darice, Inc.; its “Victoria Lynn Wedding Collection” wedding cake candles are not within the scope of the antidumping duty order; February 2, 2007.

A-570-504: Petroleum Wax Candles from the People's Republic of China

Requestor: Lava Enterprises; its gingerbread man, gingerbread boy, and gingerbread girl candles are not within the scope of the antidumping duty order; February 27, 2007.

A-570-504: Petroleum Wax Candles from the People's Republic of China

Requestor: Meijer Distribution Inc.; its dracula, mummy, bat, pumpkin, and ghost candles are within the scope of the antidumping duty order; its skeleton candles are not within the scope of the antidumping duty order; March 22, 2007.

A-570-846: Brake Rotors from the People's Republic of China

Requestor: Federal-Mogul Corporation; its brake rotors that include the Ford-Motorcraft logo in the casting and certified by the Ford Motor Company (an Original Equipment Manufacturer) are not within the scope of the antidumping duty order; January 17, 2007.

A-570-890: Wooden Bedroom Furniture from the People's Republic of China

Requestor: Toys'R Us, Inc.; the: 1) Cabbage Patch Kids Wooden Toy Box, manufactured by Toy Vault; 2) Americana Wood Toy Box with Bins, manufactured by Little Tikes; 3) Americana Wood Toy Box, manufactured by Little Tikes; and 4) Transportation Toy Box, manufactured by KidKraft, are within the scope of the antidumping duty order; the Toy Box with Wheels, manufactured by Fun Times, is not within the scope of the antidumping duty order; March 9, 2007.

Multiple Countries

A-351-838: Certain Frozen Warmwater Shrimp from Brazil; A-331-802: Certain Frozen Warmwater Shrimp from Ecuador; A-533-840: Certain Frozen Warmwater Shrimp from India; A-549-822: Certain Frozen Warmwater Shrimp from Thailand; A-570-893: Certain Frozen Warmwater Shrimp from the People's Republic of China; A-552-802: Certain Frozen Warmwater Shrimp from and the Socialist Republic of Vietnam

Requestor: Contessa Premium Foods; its Enrobed Shrimp is within the scope of the antidumping duty orders; February 26, 2007.

Anticircumvention Determinations Completed Between January 1, 2007 and March 31, 2007:

None.

Scope Inquiries Terminated Between January 1, 2007 and March 31, 2007:

People's Republic of China

A-570-890: Wooden Bedroom Furniture from the People's Republic of China

Requestor: Tuohy Furniture Corp.; whether wainscoting is within the scope of the antidumping duty order; rescinded March 6, 2007.

Anticircumvention Inquiries Terminated Between January 1, 2007 and March 31, 2007:

None.

Scope Inquiries Pending as of March 31, 2007:

Italy

A-475-703: Granular Polytetrafluoroethylene Resin from Italy

Requestor: Petitioner, E.I. DuPont de Nemours & Company; whether imports of Polymist[reg] feedstock produced by the respondent, Solvay Solexis, Inc. and Solvay Solexis S.p.A (collectively, Solvay) are within the scope of the antidumping duty order; requested August 18, 2006; initiated October 2, 2006.

People's Republic of China

A-570-504: Petroleum Wax Candles from the People's Republic of China

Requestor: FashionCraft-Excello, Inc.; whether its flip flops (pink, blue, orange, or yellow), wedding cake (white, ivory, pink or silver), baby bottle (pink or blue), pears, rubber duckie, coach (silver or gold), baby carriage (pink or blue), and teddy bear on a rocking horse (pink or blue) candles, based on the “Novelty” exception from FashionCraft-Excello, Inc., are within the scope of the antidumping duty order; requested December 8, 2006.

A-570-504: Petroleum Wax Candles from the People's Republic of China

Requestor: Musical Candle Company; whether its musical candle is within the scope of the antidumping duty order; requested January 16, 2007.

A-570-504: Petroleum Wax Candles from the People's Republic of China

Requestor: Enchante Accessories, Inc.; whether its palm oil wax candle is within the scope of the antidumping duty order; requested January 29, 2007.

A-570-504: Petroleum Wax Candles from the People's Republic of China

Requestor: H S Candle, Inc.; whether its wedding candle series is within the scope of the antidumping duty order; requested February 15, 2007.

A-570-803: Heavy Forged Hand Tools from the People's Republic of China

Requestor: Cummins Industrial Tools; whether the 10-ton log splitter is within the scope of the antidumping duty order; requested February 27, 2007.

A-570-803: Heavy Forged Hand Tools from the People's Republic of China

Requestor: Agri-fab; whether the Tow Behind Log Splitter is within the scope of the antidumping duty order; requested March 26, 2007.

A-570-826: Paper Clips from the People's Republic China

Requestor: Esselte Corporation; whether Pendaflex Pile Smart Label Clips are within the scope of the antidumping duty order; requested February 15, 2007.

A-570-848: Freshwater Crawfish Tailmeat from the People's Republic of China

Requestor: Maritime Products International; whether breaded crawfish tailmeat is within the scope of the antidumping duty order; requested November 8, 2006; initiated December 18, 2006.

A-570-882: Refined Brown Aluminum Oxide from the People's Republic of China

Requestor: 3M Company; whether certain semi-friable and heat-treated, specialty aluminum oxides are within the scope of the antidumping duty order; requested September 19, 2006; initiated January 17, 2007.

A-570-890: Wooden Bedroom Furniture from the People's Republic of China

Requestor: Target Corporation; whether the products in its “Manhattan Collection” (which consists of a bench, computer cart, bookcase, modular room divider and desk) are within the scope of the antidumping duty order; requested January 26, 2007.

A-570-891: Hand Trucks from the People's Republic of China

Requestor: Ameristep Corporation, Inc.; whether its “non-typical” deer cart (product no. 7800) and its “grizzly” deer cart (product no. 9800) are within the scope of the antidumping duty order; requested November 15, 2006.

A-570-891: Hand Trucks from the People's Republic of China

Requestor: Bond Street Ltd.; whether its slide-flat cart (style no. 390009CHR) is within the scope of the antidumping duty order; requested December 8, 2006.

A-570-891: Hand Trucks from the People's Republic of China

Requestor: Northern Tool & Equipment Co.; whether a high-axle torch cart (item #164771) is within the scope of the antidumping duty order; requested March 27, 2007.

A-570-891: Hand Trucks from the People's Republic of China

Requestor: American Lawn Mower Company; whether its “Collect-It Garden Waste Remover” is within the scope of the antidumping duty order; requested March 28, 2007.

A-570-898: Chlorinated Isocyanurates from the People's Republic of China

Requestor: BioLab, Inc.; whether chlorinated isocyanurates originating in the People's Republic of China (PRC), that are packaged, tableted, blended with additives, or otherwise further processed in Canada before entering the United States, are within the scope of the antidumping duty order; requested November 22, 2006; initiated March 9, 2007.

A-570-901: Lined Paper Products from the People's Republic of China

Requestor: Avenues in Leather, Inc.; whether its cases with three ring binders and folios (a.k.a. pad folios) are within the scope of the antidumping duty order; requested July 13, 2006; initiated November 9, 2006.

A-570-901: Lined Paper Products from the People's Republic of China

Requestor: Lakeshore Learning Materials; whether certain printed educational materials (product numbers: RR973; RR974; GG185; GG186; GG181; GG182; RR673; RR674; AA185; AA186; RR630; RR631; AA786; AA787; AA181; AA182; GG324; GG325; JJ537; JJ538; JJ342; JJ343; JJ225; JJ226; GG823; RR801ML2; AA953ML3; GG528JNL; GG381JRN; RR969; RR968; GG145; GG146; EE372; GG154; GG155; LA125; EE419; GG241JNL; AA559; AA558; AA565; AA555; EE441; EE442; EE443; EE444; EE651; EE652; EE633; EE654; JJ2206; JJ2207; JJ255; JJ258) are within the scope of the antidumping duty order; requested December 7, 2006.

A-570-901: Lined Paper Products from the People's Republic of China

Requestor: Bond Street Ltd.; whether its writing cases (previously found to be within the scope when containing writing pads with a backing, provided that they do not have a front cover and/or they consist of hole-punched or drilled filler paper), which contain writing tablets 2i and 2ii (previously found within the scope), are within the scope of the antidumping duty order; requested December 22, 2006.

Multiple Countries

A-122-503: Certain Iron Construction Castings from Canada; A-351-503 and C-351-504: Certain Iron Construction Castings from Brazil; A-570-502: Iron Construction Castings from the People's Republic of China

Requestor: Deeter Foundry, Inc., East Jordan Iron Works, Inc., LeBaron Foundry, Inc., Leed Foundry, Inc., Municipal Castings, Inc., Neenah Foundry Company, Tyler Pipe Company, and U.S. Foundry & Manufacturing Co.; whether both gray and ductile iron construction castings are within the scope of the antidumping and countervailing duty orders; requested on March 23, 2007;¹ initiated March 23, 2007.

¹ We note that the request was originally filed on March 7, 2007. However, it was re-filed on March 23, 2007, due to procedural deficiencies.

Anticircumvention Rulings Pending as of March 31, 2007:

People's Republic of China

A-570-001: Potassium Permanganate from the People's Republic of China

Requestor: Specialty Products International, Inc.; whether sodium permanganate is later-developed merchandise that is circumventing the antidumping duty order; requested October 10, 2006.

A-570-504: Petroleum Wax Candles from the People's Republic of China

Requestor: National Candle Association; whether candles assembled in the United States from molded or carved articles of wax (a.k.a. wickless wax forms) from the PRC are circumventing the antidumping duty order; requested December 14, 2005; initiated May 11, 2006; preliminary affirmative circumvention determination March 22, 2007.

A-570-868: Folding Metal Tables and Chairs from the People's Republic of China

Requestor: Meco Corporation; whether the common leg table (a folding metal table affixed with cross bars that enable the legs to fold in pairs) produced in the PRC is a minor alteration that circumvents the antidumping duty order; requested October 31, 2005; initiated June 1, 2006.

A-570-894: Certain Tissue Paper Products from the People's Republic of China

Requestor: Seaman Paper Company; whether imports of tissue paper from Vietnam made out of jumbo rolls of tissue paper from the PRC are circumventing the antidumping duty order; requested July 19, 2006; initiated September 5, 2006.

Interested parties are invited to comment on the completeness of this list of pending scope and anticircumvention inquiries. Any comments should be submitted to the Deputy Assistant Secretary for AD/CVD Operations, Import Administration, International Trade Administration, 14th Street and Constitution Avenue, NW, Room 1870, Washington, DC 20230.

This notice is published in accordance with 19 CFR 351.225(o).

Dated: April 25, 2007.
Stephen J. Claeys,
Deputy Assistant Secretary for Import Administration.

[FR Doc. E7-8281 Filed 4-30-07; 8:45 am]

BILLING CODE: 3510-DS-S